DEPARTMENT OF THE INTERIOR

Bureau of Land Management

[LLIDB00100 LF1000000.HT0000 LXSS020D0000 4500031158]

Notice of Intent To Amend the Cascade Resource Management Plan (RMP) and the Kuna and Bruneau Management Framework Plans (MFP) for the Bruneau, Four Rivers Field Offices in Idaho and the Associated Environmental Assessment

AGENCY: Bureau of Land Management, Interior.

ACTION: Notice of Intent.

SUMMARY: In compliance with the National Environmental Policy Act of 1969 as amended (NEPA), and the Federal Land Policy and Management Act of 1976 as amended, the Bureau of Land Management (BLM) Boise District Office, Boise, Idaho, intends to prepare Resource Management Plan (RMP) and Management Framework Plan (MFP) amendments with an associated Environmental Assessment (EA) for the Bruneau and Four Rivers Field Offices and by this notice announcing the beginning of the scoping process to solicit public comments and identify issues.. The amendments would clarify the subset of lands, designated as eligible or potentially eligible for disposal, that meet FLPMA's Section 203 sale criteria. The BLM Boise District Office will also analyze approximately 1,600 acres of public land, currently identified as Category I (retention), for reclassification as suitable for sale under FLPMA Section 203, exchange or Recreation and Public Purpose patent. This reclassification could result in a net benefit to BLM programs and aid in blocking up State and Federal management units. The BLM will apply Section 203 criteria to determine whether the parcels will be considered eligible for disposal through sale or through exchange or Recreation and Public Purposes (R&PP) Act conveyance or leases.

DATES: This notice initiates the public scoping process for the RMP and MFP amendments with associated EA. Comments on issues may be submitted in writing until November 19, 2012. In order to be included in the analysis, all comments must be received prior to the close of the 30-day scoping period or 30 days after the last public meeting, whichever is later. We will provide additional opportunities for public participation as appropriate.

ADDRESSES: You may submit comments on issues and planning criteria related to the Cascade RMP (1988), Bruneau MFP (1983), and Kuna MFP (1983) proposed amendments and associated EA by any of the following methods:

• Web site: http://www.blm.gov/id/st/en/info/nepa.html.

• Email: kmoore@blm.gov.

• Fax: (208) 384-3326.

• Mail: BLM Boise District Office, Attn: Kelley Moore, 3948 Development Ave., Boise, ID 83705.

Documents pertinent to this proposal may be examined at the BLM's Boise District Office at 3894 Development Ave, Boise, ID 38705.

FOR FURTHER INFORMATION CONTACT: and/or to have your name added to our mailing list, contact Kelley Moore, Realty Specialist, telephone: 208-384-3339; address: 3894 Development Ave, Boise, ID 38705; email: kmoore@blm.gov. Persons who use a telecommunications device for the deaf (TDD) may call the Federal Information Relay Service (FIRS) at 1-800-877-8339 to contact the above individual during normal business hours (8:00 a.m. to 4:30 p.m.). The FIRS is available 24 hours a day, 7 days a week, to leave a message or question with the above individual. You will receive a reply during normal business hours.

SUPPLEMENTARY INFORMATION: This document provides notice that the BLM, Boise District Office, Boise, Idaho, intends to prepare RMP and MFP amendments with an associated EA to analyze proposed amendments to the 1983 Bruneau MFP, the 1983 Kuna MFP, and the 1988 Cascade RMP, announces the beginning of the scoping process, and seeks public input on issues and planning criteria. The planning areas are located in Ada, Adams, Boise, Canyon, Elmore, Gem, Valley, and Washington counties in Idaho and encompasses approximately 780,000 acres of public land. The purpose of the public scoping process is to determine relevant issues that will influence the scope of the environmental analysis, including alternatives, and guide the planning process.

Preliminary issues for the plan amendment areas have been identified by BLM personnel; Federal, State, and local agencies; and other stakeholders. The issues include:

(1) Identify lands currently designated as eligible or potentially eligible for disposal, that also meet FLPMA Section 203 sale criteria (43 U.S.C. 1713(a)). The land disposal classifications within each of the above land use plans fail to identify parcels of public land that have been evaluated for disposal by sale under FLPMA Section 203. The quoted language from each of the plans would be clarified in these amendments so that public lands currently designated as “potentially eligible” for disposal are designated as either eligible through sale or not. The proposed amendments would not change the BLM's ability to dispose of those lands through exchange, R&PP Act leases or other means of conveyance, or to retain them; and

(2) Analyze the reclassification to “available for disposal,” approximately 1,600 acres presently classified for “retention” in the Kuna MFP. Preliminary planning criteria are FLPMA's Section 203 sale criteria for the clairification parcels and BLM's planning handbook (H-1601-1) for the reclassification parcels. The clairification and reclassification would not have any on-the-ground impacts so no other preliminary planning criteria are being considered.

Disposal of BLM parcels considered suitable for conveyance by sale or other accepted methods may lead to economic benefits to the local community, while blocking up Federal and State management units in the area. Pursuant to Section 1505 of the Omnibus Public Land Management Act of 2009, Public Law 111-11, the proceeds from the sale of eligible parcels could allow BLM to acquire lands that are of higher social, cultural or environmental value, and/or could be more efficiently and economically managed. Any determination of the suitability of identified BLM parcels for disposal, however, would not remove the BLM's obligation to carry out a detailed environmental analysis prior to any proposed sale, exchange, issuance of an R&PP Act lease, or conveyance through any other means. Nor would it change BLM's authority to retain those lands under Federal management.

The public is invited to provide scoping comments on the above mentioned issues, as well as other issues that should be addressed in the preparation of the plan amendments. You may submit comments on issues and planning criteria in writing to the BLM at any public scoping meeting, or you may submit them to the BLM using one of the methods listed in the ADDRESSES section above. To be most helpful, you should submit comments by the close of the 30-day scoping period or within 30 days after the last public meeting, whichever is later.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency. Before including your address, phone number, email address, or other personal identifying information in your comment, you should be aware that your entire comment—including your personal identifying information—may be made publicly available at any time. While you can ask us in your comment to withhold your personal identifying information from public review, we cannot guarantee that we will be able to do so. The BLM will evaluate identified issues to be addressed in the plan, and will place them into one of three categories:

1. Issues to be resolved in the plan amendment;

2. Issues to be resolved through policy or administrative action; or

3. Issues beyond the scope of this plan amendment.

The BLM will provide an explanation in the EA as to why an issue was placed in category two or three. The public is also encouraged to help identify any management questions and concerns that should be addressed in the plan. The BLM will work collaboratively with interested parties to identify the management decisions that are best suited to local, regional, and national needs and concerns.

The BLM will use an interdisciplinary approach to develop the plan amendments in order to consider the variety of resource issues and concerns identified. Specialists with expertise in the following disciplines will be involved in the planning process: lands and realty, rangeland management, minerals and geology, forestry, outdoor recreation, archaeology, paleontology, wildlife and fisheries, hydrology, and soils.

Authorities: 43 U.S.C. 1713(a); 43 CFR 1610.5-5 & 43 CFR 2710.

Allen Sieglitz,
District Manager.

[FR Doc. 2012-25593 Filed 10-17-12; 8:45 am]

BILLING CODE 4310-GG-P